DEPARTMENT OF HEALTH AND HUMAN SERVICES

Biomedical Advanced Research and Development Authority Industry Day 2023

AGENCY: Administration for Strategic Preparedness and Response (ASPR), Department of Health and Human Services (HHS).

ACTION: Notice.

SUMMARY: The Biomedical Advanced Research and Development Authority (BARDA) annually hosts BARDA Industry Day (BID), a two-day conference with industry and our government partners to share BARDA's goals and objectives, increase awareness of U.S. government medical countermeasure (MCM) priorities, and facilitate collaboration between public and private sectors within the health security space. This year, BARDA plans to discuss implementation efforts for our 2022-2026 Strategic Plan, which focuses on strengthening the health security of the nation, embracing lessons learned from the COVID-19 pandemic, incorporating new avenues of promising research and development, and addressing the imperative for MCMs that are safe, effective, and widely accessible.

DATES: BID 2023 will be a hybrid event, held from Monday, November 13-Tuesday, November 14, 2023. The meeting will begin each day at 9 a.m. Eastern Standard Time.

ADDRESSES: This meeting is open to the public. Register here: https://medicalcountermeasures.gov/barda/barda-industry-day-2023/.

FOR FURTHER INFORMATION CONTACT: Ezinne N. Ebi, Biomedical Advanced Research & Development Authority (BARDA), ezinne.ebi@hhs.gov, (202) 989-5539.

Dawn O'Connell,
Assistant Secretary for Preparedness and Response.

[FR Doc. 2023-22539 Filed 10-12-23; 8:45 am]

BILLING CODE 4150-37-P